DEPARTMENT OF ENERGY

Federal Energy Regulatory Commission

Combined Notice of Filings #1

June 13, 2005.

Take notice that the Commission received the following electric rate filings:

Docket Numbers: ER00-1147-000; ER05-287-001.

Applicants: Granite Ridge Energy, LLC.

Description: Granite Ridge Energy, LLC submits its amended updated triennial market power analysis.

Filed Date: 06/06/2005.

Accession Number: 20050609-0319.

Comment Date: 5 p.m. Eastern Time on Monday, June 27, 2005.

Docket Numbers: ER04-691-045; EL04-104-043; ER05-1083-000.

Applicants: Midwest Independent Transmission System Operator, Inc.

Description: Midwest Independent Transmission Owners submits attached revisions to Schedule 24 of the Midwest ISO's Open Access Transmission and Energy Markets Tariff pursuant to FERC's 2/18/05 Order and a section 205 filing submitting proposed changes to Schedule No. 1.

Filed Date: 06/06/2005.

Accession Number: 20050609-0105.

Comment Date: 5 p.m. Eastern Time on Monday, June 27, 2005.

Docket Numbers: ER05-1076-000.

Applicants: Carolina Power & Light Company.

Description: Carolina Power & Light Company aka Progress Energy Carolinas, Inc. requests FERC acceptance of the Market-Based Rate Tariff, FERC Electric Tariff Volume 7 under ER05-1076.

Filed Date: 06/06/2005.

Accession Number: 20050608-0120.

Comment Date: 5 p.m. Eastern Time on Monday, June 27, 2005.

Docket Numbers: ER05-1077-000.

Applicants: Florida Power Corporation.

Description: Florida Power Corporation aka Progress Energy Florida, Inc. requests FERC's acceptance of the Market-Based Rate Tariffs, FERC Electric Tariff Volume 8 and Second Revised Volume No. 10 under ER05-1077.

Filed Date: 06/06/2005.

Accession Number: 20050608-0121.

Comment Date: 5 p.m. Eastern Time on Monday, June 27, 2005.

Docket Numbers: ER05-1078-000.

Applicants: San Diego Gas & Electric Company.

Description: San Diego Gas & Electric Company submits Service Agreement 23 to its FERC Electric Tariff, Second Revised Volume 11 under ER05-1078.

Filed Date: 06/06/2005.

Accession Number: 20050608-0124.

Comment Date: 5 p.m. Eastern Time on Monday, June 27, 2005.

Docket Numbers: ER05-1080-000.

Applicants: WKE Station Two, Inc.

Description: WKE Station Two, Inc. submits a notice of cancellation of certain tariff sheets erroneously submitted on 11/19/04.

Filed Date: 06/06/2005.

Accession Number: 20050608-0428.

Comment Date: 5 p.m. Eastern Time on Monday, June 27, 2005.

Docket Numbers: ER05-1082-000.

Applicants: Carolina Power & Light Company.

Description: Carolina Power & Light Company aka Progress Energy Carolina, Inc. requests that FERC accept the Cost-Based Wholesale Power Sales Tariff, designated as FERC Electric Tariff, Original Volume 6, submitted pursuant to section 205 of the Federal Power Act under ER05-1082.

Filed Date: 06/06/2005.

Accession Number: 20050608-0425.

Comment Date: 5 p.m. Eastern Time on Monday, June 27, 2005.

Docket Numbers: ER05-319-003.

Applicants: PJM Interconnection, L.L.C.

Description: PJM Interconnection, L.L.C. submits a substitute interconnection service agreement with MM Hackensack Energy, LLC, and Public Service Electric and Gas Company pursuant to FERC's 5/6/05 Order.

Filed Date: 06/06/2005.

Accession Number: 20050608-0123.

Comment Date: 5 p.m. Eastern Time on Monday, June 27, 2005.

Docket Numbers: ER05-767-003.

Applicants: New England Power Pool Participants Committee and ISO New England Inc.

Description: New England Power Pool Participants Committee and ISO New England Inc. submit a report of compliance and revised Market Rule 1, Appendix A tariff sheets reflecting the effective date accepted in FERC's 5/6/05 order.

Filed Date: 06/06/2005.

Accession Number: 20050609-0107.

Comment Date: 5 p.m. Eastern Time on Monday, June 27, 2005.

Docket Numbers: ER05-815-001.

Applicants: PJM Interconnection, LLC.

Description: PJM Interconnection, LLC submits a substitute executed interconnection service agreement with PSEG Nuclear LLC and Public Service Electric and Gas Company and Atlantic City Electric Company.

Filed Date: 06/06/2005.

Accession Number: 20050608-0122.

Comment Date: 5 p.m. Eastern Time on Monday, June 27, 2005.

Docket Numbers: ER05-923-001.

Applicants: Wisconsin Electric Power Company.

Description: Wisconsin Electric Power Co. submits an amendment to its 4/29/05 submission of certain revisions to its Rate Schedule FERC No. 102, a Wholesale Distribution Export Service Agreement with Alliant Energy Corporate Services, Inc.

Filed Date: 06/06/2005.

Accession Number: 20050609-0113.

Comment Date: 5 p.m. Eastern Time on Monday, June 27, 2005.

Docket Numbers: ER97-2846-005; ER99-2311-006; EL05-77-000.

Applicants: Florida Power Corporation.

Description: Progress Energy Inc. on behalf of Carolina Power & Light Company, also known as Progress Energy Carolinas, Inc.; and Florida Power Corporation, also known as Progress Energy Florida, Inc. submits an updated market power analysis for Carolina Power & Light Company and Florida Power Corporation pursuant to the 5/5/05 order issued by FERC.

Filed Date: 06/06/2005.

Accession Number: 20050610-0005.

Comment Date: 5 p.m. Eastern Time on Monday, June 27, 2005.

Docket Numbers: ER97-324-009; ER97-3834-015; ER98-3026-010; ER00-1816-005; ER00-1746-004; ER02-963-006.

Applicants: The Detroit Edison Company; DTE Energy Trading, Inc.; DTE Edison America, Inc.; DTE River Rouge No. 1, L.L.C.; DTE Georgetown, L.P.; Crete Energy Venture, L.L.C.

Description: The Detroit Edison Company, DTE Energy Trading, Inc.; DTE Edison America, Inc.;DTE Georgetown, L.P., DTE River Rouge No. 1, L.L.C.; and Crete Energy Venture, L.L.C. submit amended sheets to their respective market-based rate tariffs in compliance with FERC's 5/5/05 Order.

Filed Date: 06/06/2005.

Accession Number: 20050613-0010.

Comment Date: 5 p.m. Eastern Time on Monday, June 27, 2005.

Docket Numbers: ER99-2251-004; ER99-2252-005; ER98-2491-010; ER97-705-015; ER02-2080-004; ER02-2546-005; ER99-3248-007; ER99-1213-005 and ER01-1526-005.

Applicants: Consolidated Edison Company of New York, Inc.; Orange and Rockland Utilities, Inc.; Consolidated Edison Energy, Inc.; Consolidated Edison Solutions, Inc.; Ocean Peaking Power, L.L.C.; CED Rock Springs, Inc.; Consolidated Edison Energy of Massachusetts, Inc.; Lakewood Cogeneration, L.P.; Newington Energy, L.L.C.

Description: The Con Edison Companies listed above submit the revised market power analysis required by the Order Conditionally Accepting Updated Market Power Analysis issued on 5/5/05 (111 FERC 61,155) .

Filed Date: 06/06/2005.

Accession Number: 20050610-0002.

Comment Date: 5 p.m. Eastern Time on Monday, June 27, 2005.

Docket Numbers: ER05-1062-000.

Applicants: New England Power Pool.

Description: The New England Power Pool Participants Committee submits the signature pages to the agreement dated as of 9/1/71 as amended and executed in order to expand NEPOOL membership to include Bear Swamp Power Company, LLC; Black Oak Capital, LLC; Gas Recovery Systems, LLC; LaBree's Inc.; Labree's Energy, LLC; Mirant Energy Trading, LLC; New England Wire Technologies; Saracen Energy, LP; and Saracen Merchant Energy, LP.

Filed Date: 06/01/2005.

Accession Number: 20050603-0084.

Comment Date: 5 p.m. Eastern Time on Wednesday, June 22, 2005.

Docket Numbers: ER05-1063-000.

Applicants: Florida Power Corporation.

Description: Florida Power doing business as Progress Energy Florida, Inc submits a rate schedule providing for cost-based power sales to the City of Winter Park, Florida designated as Rate Schedule FERC 191 to become effective 6/1/05.

Filed Date: 06/01/2005.

Accession Number: 20050603-0085.

Comment Date: 5 p.m. Eastern Time on Wednesday, June 22, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Linda Mitry,
Deputy Secretary.

[FR Doc. E5-3208 Filed 6-17-05; 8:45 am]

BILLING CODE 6717-01-P